DEPARTMENT OF THE INTERIOR

Bureau of Ocean Energy Management

[Docket No. BOEM-2015-0091]

Request for Information on the State of the Offshore Renewable Energy Industry—Request for Feedback; MMAA104000

AGENCY: Bureau of Ocean Energy Management (BOEM), Interior.

ACTION: Request for Feedback.

SUMMARY: BOEM invites public comment on the aspects of BOEM's renewable energy program that stakeholders have found to be successful, and those program areas where there appear to be opportunities for improvement.

DATES: Stakeholders should submit comments electronically or postmarked no later than December 29, 2015.

ADDRESSES: Comments should be submitted in one of the two following ways:

1. Electronically: http://www.regulations.gov. In the entry titled “Enter Keyword or ID,” search for BOEM-2015-0091. Follow the instructions to submit public comments in response to this document.

2. Written Comments: In written form, delivered by hand or by mail, enclosed in an envelope labeled “Comments on Request for Feedback” to: Office of Renewable Energy Programs, Bureau of Ocean Energy Management, 45600 Woodland Road, VAM-OREP, Sterling, Virginia 20166.

FOR FURTHER INFORMATION CONTACT: Mary Borcherding, BOEM Office of Renewable Energy Programs, 45600 Woodland Road, VAM-OREP, Sterling, Virginia 20166, (703) 787-1826 or Mary.Borcherding@boem.gov; Jennifer Golladay, BOEM Office of Renewable Energy Programs, 45600 Woodland Road, VAM-OREP, Sterling, Virginia 20166, (703) 787-1688 or Jennifer.Golladay@boem.gov.

SUPPLEMENTARY INFORMATION:

Authority

This notice is published pursuant to subsection 8(p) of the Outer Continental Shelf (OCS) Lands Act (43 U.S.C. 1337(p)), added by section 388 of the Energy Policy Act of 2005, and the implementing regulations at 30 CFR 585.116. This regulatory provision states that the Director, “may . . . solicit information from industry and other relevant stakeholders (including State and local agencies), as necessary, to evaluate the state of the offshore renewable energy industry, including the identification of potential challenges or obstacles to its continued development. Such requests for information may relate to the identification of environmental, technical, regulatory, or economic matters that promote or detract from continued development of renewable energy technologies on the OCS. From the information received, the Director may evaluate certain refinements to the OCS Alternative Energy Program that promote development of the industry in a safe and environmentally responsible manner, and that ensure fair value for use of the Nation's OCS.”

Purpose

Since BOEM promulgated its renewable energy regulations in 2009, BOEM has made substantial progress in planning and leasing for renewable energy development on the OCS. BOEM has issued nine commercial wind energy leases, generated more than $14.5 million in winning bids from offshore wind lease sales, and established 13 intergovernmental task forces with Federal, State, local, and tribal partners to assist in identifying areas for potential renewable energy development.

Now that BOEM's Renewable Energy Program has gained experience in implementing its regulations, it is appropriate to evaluate and assess our existing processes. BOEM believes stakeholder feedback is crucial to this effort. To that end, BOEM invites comments and feedback on any aspects of BOEM's Renewable Energy Program that our governmental partners, the offshore renewable energy industry, and other affected stakeholders have found to be particularly effective. At the same time, BOEM is also interested in constructive criticism and feedback. Therefore, BOEM requests recommendations for improving aspects of our program that stakeholders believe to be ineffective or unnecessarily burdensome, and requests descriptions of the benefits those program changes would create. BOEM will use the information submitted to inform our strategic planning efforts and in determining whether and how we should change our existing renewable energy processes, including, if warranted, our regulations.

For more information about BOEM's renewable energy efforts, please visit: http://www.boem.gov/Renewable-Energy/.

Protection of Privileged or Confidential Information

BOEM will protect privileged or confidential information that you submit as required by the Freedom of Information Act (FOIA). Exemption 4 of FOIA applies to trade secrets and commercial or financial information that you submit that is privileged or confidential. If you wish to protect the confidentiality of such information, clearly mark it and request that BOEM treat it as confidential. BOEM will not disclose such information, except as required by FOIA. Please label privileged or confidential information “Contains Confidential Information” and consider submitting such information as a separate attachment.

However, BOEM will not treat as confidential any aggregate summaries of such information or comments not containing such information. Additionally, BOEM may not treat as confidential the legal title of the commenting entity (e.g., the name of your company). Information that is not labeled as privileged or confidential will be regarded by BOEM as suitable for public release.

Dated: September 16, 2015.
Abigail Ross Hopper,
Director, Bureau of Ocean Energy Management.

[FR Doc. 2015-24406 Filed 9-29-15; 8:45 am]

BILLING CODE 4310-MR-P